DEPARTMENT OF HEALTH AND HUMAN SERVICES

Administration for Children and Families

Statement of Organization, Functions, and Delegations of Authority

This notice amends Part K of the Statement of Organization, Functions, and Delegations of Authority of the Department of Health and Human Services (DHHS), Administration for Children and Families (ACF), as follows: Chapter KA, Immediate Office of the Assistant Secretary, as last amended at 63 FR 81-87, January 2, 1998; Chapter KB, Administration on Children, Youth and Families (ACYF), as last amended at 67 FR 8816-18, February 26, 2002; and Chapter KH, Office of Family Assistance (OFA), as last amended at 67 FR 67198, November 4, 2002. This reorganization will transfer the Head Start Bureau (KBC) in its entirety and with its current organizational structure, from ACYF (KB), and retitle it as the Office of Head Start (KU) reporting directly to the Assistant Secretary for Children and Families. This reorganization will also transfer the Child Care Bureau (KBG) in its entirety and with its current organizational structure from ACYF to the Office of Family Assistance (KH). The changes are as follows:

I. Under Chapter KB, Administration on Children, Youth and Families, make the following changes:

A. Delete, KB.00 Mission, in its entirety and replace with the following:

KB.00 Mission: The Administration on Children, Youth and Families (ACYF) advises the Secretary, through the Assistant Secretary for Children and Families, on matters relating to the sound development of children, youth and families by planning, developing and implementing a broad range of activities. It administers state grant programs under titles IV-B and IV-E of the Social Security Act; manages the Adoption Opportunities program and other discretionary programs for the development and provision of child welfare services; and administers discretionary grant programs providing facilities for runaway youth; and administers the Child Abuse Prevention and Treatment Act. It supports and encourages services that prevent or remedy the effects of abuse and/or neglect of children and youth.

In concert with other components of ACF, ACYF develops and implements research, demonstration and evaluation strategies for the discretionary funding of activities designed to improve and enrich the lives of children and youth and to strengthen families. It administers Child Welfare Services training and Child Welfare Services research and demonstration programs authorized by title IV-B of the Social Security Act; administers the Runaway and Homeless Youth Act authorized by title III of the Juvenile Justice and Delinquency Prevention Act; and manages initiatives to involve the private and voluntary sectors in the areas of children, youth and families.

B. Under Chapter KB, Paragraph KB.10 Organization, delete the following components in their entireties:

—Head Start Bureau (KBC).

—Child Care Bureau (KBG).

C. Under Paragraph KB.20 Functions, delete Paragraph “C. Head Start Bureau (KBC),” and Paragraph “G. Child Care Bureau (KBG),” in their entireties, and remove any reporting references to ACYF.

II. Under Chapter KH, Office of Family Assistance, make the following changes:

A. Delete Paragraph, KH.00 Mission in its entirety and replace with the following:

KH.00 Mission: The Office of Family Assistance (OFA) advises the Secretary, through the Assistant Secretary for Children and Families, on matters relating to the Temporary Assistance for Needy Families (TANF) program, title IV-A of the Social Security Act. This program promotes temporary assistance and economic self-sufficiency for children and families. The Office provides leadership direction and technical guidance, with ACF Regional Offices, to the States, Tribes and Territories on the TANF program, the Native Employment Works program, and the Aid to the Aged, Blind and Disabled program in Guam, Puerto Rico and the Virgin Island. The Office refocuses efforts to increase economic independence and productivity for families. It provides direction and guidance in the collection and dissemination of performance and other valuable data for these programs. The office provides technical assistance to States, Territories, Indian Tribes, native American organizations, localities and community groups, and assesses State, Territorial and Tribal performance in administering these programs; reviews State and Tribal planning for administrative and operational improvement; and recommends actions to improve effectiveness.

In addition, the Office of Family Assistance advises the Secretary, through the Assistant Secretary for Children and Families, on matters relating to child care. The Child Care Bureau serves as the principal advisor to the Director, OFA, on issues regarding child care programs. It has primary responsibility for the operation of child care programs authorized under the Child Care Development Block Grant (CCDBG) Act and section 418 of the Social Security Act. It develops legislative, regulatory and budgetary proposals; presents operational planning objectives and initiatives related to child care to the Director, OFA; and oversees the progress of approved activities. It provides leadership and coordination for child care within ACF. It provides leadership and linkages with other agencies on child care issues including agencies within DHHS, relevant agencies across the Federal, State, local governments and Tribal governments, and non-governmental organizations at the Federal, State and local levels.

B. Under Paragraph KH.10 Organization, include the following new component:

—Child Care Bureau (KHJ).

C. Amend Paragraph KH.20 Functions, as follows:

(1) Establish a new component Child Care Bureau (KHJ).

(2) Transfer from the Administration on Children, Youth and Families, Chapter KB, the Child Care Bureau (KBG), along with its respective organization components into the Child Care Bureau (KHJ). The statement of organization, functions, and delegations of authority for the Child Care Bureau (KHJ) and its respective subcomponents will remain intact, until either superseded or amended.

III. Amend Chapter K, Administration for Children and Families, as follows:

A. Under Section K.10 Organization, add the following new component:

—Office of Head Start (KU).

B. Amend Section K.20 Functions, as follows:

(1) Establish a new Chapter (KU).

(2) Transfer from the Administration on Children, Youth and Families, Chapter (KB), the Head Start Bureau (KBC) along with its respective functional statement and responsibilities to the Office of Head Start, Chapter (KU). The statement of organization, functions, and delegations of authority for the Office of Head Start (KU) and its respective subcomponents will remain intact, until either superseded or amended.

IV. Continuation of Policy: Except as inconsistent with this reorganization, all statements of policy and interpretations with respect to organizational components effected by this Notice within the Administration for Children and Families heretofore issued and in effect on the date of this reorganization are continued in full force and effect.

V. Delegations of Authority: All delegations and delegations of authority made to officials and employees of affected organizational components will continue in them or their successors pending further redelegation, provided they are consistent with this reorganization.

VI. Funds, Personnel and Equipment: Transfer of organizations and functions affected by this reorganization shall be accompanied in each instance by direct and support funds, positions, personnel, records, equipment, supplies and other resources.

Dated: May 16, 2006.
Michael O. Leavitt,
Secretary.

[FR Doc. 06-4758 Filed 5-22-06; 8:45am]

BILLING CODE 4184-01-M